DEPARTMENT OF COMMERCE

National Institute of Standards and Technology

Advisory Committee on Earthquake Hazards Reduction Meeting

AGENCY: National Institute of Standards and Technology, Department of Commerce.

ACTION: Notice of open meeting.

SUMMARY: The Advisory Committee on Earthquake Hazards Reduction (ACEHR or Committee), will meet Monday, August 18, 2014 from 8:30 a.m. to 5:00 p.m. Mountain Time and Tuesday, August 19, 2014, from 8:30 a.m. to 2:30 p.m. Mountain Time. The primary purpose of this meeting is to discuss priorities of the National Earthquake Hazards Reduction Program (NEHRP) for optimal NEHRP agency interactions with researchers and practitioners in other natural and man-made hazards disciplines and in the broader resilience environment, to review the NEHRP agency updates on their latest activities, and to gather information for the Committee's 2015 Report on the Effectiveness of the NEHRP. The agenda may change to accommodate Committee business. The final agenda will be posted on the NEHRP Web site at http://nehrp.gov/.

DATES: The ACEHR will meet on Monday, August 18, 2014, from 8:30 a.m. until 5:00 p.m. Mountain Time. The meeting will continue on Tuesday, August 19, 2014, from 8:30 a.m. until 2:30 p.m. Mountain Time. The meeting will be open to the public.

ADDRESSES: The meeting will be held in the entry-level conference room 204 at the U.S. Geological Survey (USGS), 1711 Illinois Street, Golden, Colorado 80401. Please note admittance instructions under the SUPPLEMENTARY INFORMATION section of this notice.

FOR FURTHER INFORMATION CONTACT: Dr. Jack Hayes, National Earthquake Hazards Reduction Program Director, National Institute of Standards and Technology (NIST), 100 Bureau Drive, Mail Stop 8604, Gaithersburg, Maryland 20899-8604. Dr. Hayes' email address is jack.hayes@nist.gov and his phone number is (301) 975-5640.

SUPPLEMENTARY INFORMATION: The Committee was established in accordance with the requirements of Section 103 of the National Earthquake Hazards Reduction Program (NEHRP) Reauthorization Act of 2004 (Pub. L. 108-360). The Committee is composed of members appointed by the Director of NIST, who were selected for their established records of distinguished service in their professional community, their knowledge of issues affecting the National Earthquake Hazards Reduction Program, and to reflect the wide diversity of technical disciplines, competencies, and communities involved in earthquake hazards reduction. In addition, the Chairperson of the U.S. Geological Survey (USGS) Scientific Earthquake Studies Advisory Committee (SESAC) serves as an ex-officio member of the Committee. The Committee assesses:

• Trends and developments in the science and engineering of earthquake hazards reduction;

• the effectiveness of NEHRP in performing its statutory activities;

• any need to revise NEHRP; and

• the management, coordination, implementation, and activities of NEHRP.

Background information on NEHRP and the Advisory Committee is available at http://nehrp.gov/.

Pursuant to the Federal Advisory Committee Act, as amended, 5 U.S.C. App., notice is hereby given that the ACEHR will hold an open meeting on Monday, August 18, 2014 from 8:30 a.m. to 5:00 p.m. Mountain Time and Tuesday, August 19, 2014, from 8:30 a.m. to 2:30 p.m. Mountain Time. The meeting will be held in the entry-level conference room 204 at the U.S. Geological Survey (USGS), 1711 Illinois Street, in Golden, Colorado 80401. The primary purpose of this meeting is to discuss priorities of the National Earthquake Hazards Reduction Program (NEHRP) for optimal NEHRP agency interactions with researchers and practitioners in other natural and man-made hazards disciplines and in the broader resilience environment, to review the NEHRP agency updates on their latest activities, and to gather information for the Committee's 2015 Report on the Effectiveness of the NEHRP. The agenda may change to accommodate Committee business. The final agenda will be posted on the NEHRP Web site at http://nehrp.gov/.

Individuals and representatives of organizations who would like to offer comments and suggestions related to the Committee's affairs are invited to request a place on the agenda. On August 19, 2014, approximately one-half hour will be reserved near the conclusion of the meeting for public comments, and speaking times will be assigned on a first-come, first-serve basis. The amount of time per speaker will be determined by the number of requests received, but is likely to be about three minutes each. Questions from the public will not be considered during this period. Speakers who wish to expand upon their oral statements, those who had wished to speak but could not be accommodated on the agenda, and those who were unable to attend in person are invited to submit written statements to the ACEHR, National Institute of Standards and Technology, 100 Bureau Drive, MS 8604, Gaithersburg, Maryland 20899-8604, via fax at (301) 975-4032, or electronically by email to info@nehrp.gov.

All visitors to the USGS site are required to pre-register to be admitted. Anyone wishing to attend this meeting must register by 5:00 p.m. Eastern Time, Thursday, August 14, 2014, in order to attend. Please submit your full name, email address, and phone number to Felicia Johnson. Ms. Johnson's email address is felicia.johnson@nist.gov and her phone number is (301) 975-5324.

Dated: July 25, 2014.
Willie E. May,
Associate Director of Laboratory Programs.

[FR Doc. 2014-18085 Filed 7-31-14; 8:45 am]

BILLING CODE 3510-13-P